DEPARTMENT OF COMMERCE

International Trade Administration

University of Illinois at Urbana-Champaign; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 01-025. Applicant: University of Illinois at Urbana-Champaign, Urbana, IL 61801. Instrument: QPix Colony Picker with Gridding and Rearraying packages. Manufacturer: Genetix Limited, United Kingdom. Intended Use: See notice at 67 FR 4393, January 30, 2002.

Comments: None received. Decision: Approved. No instrument of equivalent scientific value to the foreign instrument, for such purposes as it is intended to be used, is being manufactured in the United States. Reasons: The foreign instrument provides a unique multi-tasking robotic system for picking, gridding and rearraying specific cell colonies with a rapid picking rate of 3500 colonies per hour and very high throughput useful for large scale DNA sequencing projects. The National Institutes of Health advises in its memorandum of December 3, 2001 that: (1) This capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-5108 Filed 3-1-02; 8:45 am]

BILLING CODE 3510-DS-P